DEPARTMENT OF TRANSPORTATION

Federal Highway Administration

Notice to Rescind a Notice of Intent To Prepare an Environmental Impact Statement (EIS): Dickson Southwest Bypass From US-70 to State Route 46 and/or Interstate 40, Dickson County, Tennessee

AGENCY: Federal Highway Administration (FHWA), DOT.

ACTION: Notice to Rescind a Notice of Intent to prepare an Environmental Impact Statement (EIS).

SUMMARY: The Federal Highway Administration (FHWA) is issuing this notice to advise the public that the Notice of Intent published on September 24, 2007 to prepare an Environmental Impact Statement (EIS) for a proposed transportation project in Dickson County, Tennessee, is being rescinded.

FOR FURTHER INFORMATION CONTACT: Ms. Theresa Claxton, Planning and Program Management Team Leader, Federal Highway Administration—Tennessee Division Office, 404 BNA Drive, Suite 508, Nashville, TN 37217. 615-781-5770.

SUPPLEMENTARY INFORMATION: The FHWA, in cooperation with the Tennessee Department of Transportation (TDOT), is rescinding the notice of intent to prepare an EIS for the proposed Southwest Dickson Bypass from US-70 to State Route (SR) 46 and/or Interstate 40, in Dickson County, Tennessee. The proposed project was approximately 9.7 miles in length.

The FHWA approved the Draft EIS (DEIS) on August 8, 2011. The project as described in the DEIS proposed improvements to the SR 46 corridor from the Interstate 40 interchange to US 70. The purpose of the project was to improve mobility through the City of Dickson. During the DEIS process TDOT conducted public involvement and agency coordination, developed a purpose and need for the project, and developed preliminary alternatives. The preliminary alternatives included a No-Build alternative, a Transportation System Management (TSM) alternative, and build alternatives that would involve constructing a roadway on new location to the west of the City of Dickson and SR 46.

Based on the findings of the DEIS and public and agency input, FHWA and TDOT determined that the TSM alternative, which includes various improvements primarily along existing SR 46, would meet the purpose and need of the project and could be accomplished without significant adverse impacts to the environment. Proposed improvements may include the addition of turn lanes at intersections, synchronization of traffic signals, and installation of new traffic signals, if warranted. As such, FHWA and TDOT are rescinding the Notice of Intent to prepare an EIS and will evaluate the proposed TSM improvements as a Categorical Exclusion.

Comments and questions concerning the proposed action should be directed to FHWA at the address provided above.

(Catalog of Federal Domestic Assistance Program Number 20.205, Highway Planning and Construction. The regulating implementing Executive Order 12372 regarding intergovernmental consultation on Federal programs and activities apply to this proposed program.)

Theresa Claxton,
Planning and Program Mgmt. Team Leader, Nashville, TN.

[FR Doc. 2013-11537 Filed 5-14-13; 8:45 am]

BILLING CODE P